DEPARTMENT OF THE INTERIOR

Fish and Wildlife Service

[FWS-HQ-ES-2016-N169; FF09E00000 167 FXES11130900000]

Proposed Information Collection; Federal Fish and Wildlife Permits, Applications, and Reports—Native Endangered and Threatened Species

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on January 31, 2017. We may not conduct or sponsor and a person is not required to respond to a collection of information unless it displays a currently valid OMB control number.

DATES: To ensure that we are able to consider your comments on this IC, we must receive them by December 2, 2016.

ADDRESSES: Send your comments on the IC to the Information Collection Clearance Officer, U.S. Fish and Wildlife Service, MS BPHC, 5275 Leesburg Pike, Falls Church, VA 22041-3803 (mail); or tina_campbell@fws.gov (email). Please include “1018-0094” in the subject line of your comments.

FOR FURTHER INFORMATION CONTACT: To request additional information about this IC, contact Tina Campbell at tina_campbell@fws.gov (email) or 703-358-2676 (telephone). You may review the currently approved IC requirements at www.reginfo.gov.

SUPPLEMENTARY INFORMATION:

I. Abstract

We use the information we collect on permit applications to determine the eligibility of applicants for permits requested in accordance with various Federal wildlife conservation laws, including:

• Endangered Species Act (16 U.S.C. 1531 et seq.).

• Migratory Bird Treaty Act (16 U.S.C. 703 et seq.).

• Lacey Act (16 U.S.C. 3371 et seq.).

• Bald and Golden Eagle Protection Act (16 U.S.C. 668).

• Marine Mammal Protection Act (16 U.S.C. 1374).

Service regulations implementing these statutes and treaties are in chapter I, subchapter B of title 50 of the Code of Federal Regulations. These regulations stipulate general and specific requirements that when met allow us to issue permits to authorize activities that are otherwise prohibited. This IC includes the following permit application forms and the reporting requirements:

Applications

• FWS Form 3-200-54 (Enhancement of Survival Permits Associated with Safe Harbor Agreements and Candidate Conservation Agreements with Assurances).

• FWS Form 3-200-55 (Scientific Purposes, Enhancement of Propagation or Survival Permits (i.e., Recovery Permits), and Interstate Commerce Permits).

• FWS Form 3-200-56 (Incidental Take Permits Associated with a Habitat Conservation Plan).

Agreement Plans

We are seeking OMB approval for reporting associated with the following agreements/plans:

• Habitat Conservation Plan (application form 3-200-56). A habitat conservation plan (HCP) is a planning document that is required as part of an application for an incidental take permit. It describes the anticipated effects of the proposed taking, how those impacts will be minimized or mitigated, and how the HCP is to be funded. Section 10 of the Endangered Species Act (ESA) and its implementing regulations define the contents of HCPs. During development of an HCP, the Service may request that the applicant provide information such as the following: Contact information, project description, site maps, GIS data, photographs, species and habitat survey results, training requirements, analysis of the potential project impacts to listed species, and annual reporting requirements outlined in the permit or HCP.

• Safe Harbor Agreement (application form 3-200-54). A safe harbor agreement (SHA) is a voluntary agreement involving private or other non-Federal property owners whose actions contribute to the recovery of species listed as threatened or endangered under the ESA. The agreement is between cooperating non-Federal property owners and the U.S. Fish and Wildlife Service or the National Oceanic and Atmospheric Administration, which is responsible for most listed marine and anadromous fish species. In exchange for actions that contribute to the recovery of listed species on non-Federal lands, participating property owners receive formal assurances from the Service that if they fulfill the conditions of the SHA, the Service will not require any additional or different management activities by the participants without their consent. In addition, at the end of the agreement period, participants may return the enrolled property to the baseline conditions that existed at the beginning of the SHA. If an SHA is feasible, the landowner and the Service will:

(1) Work together to compile information about the land, including a map, the current management, and the management needs of the species and/or habitat.

(2) Determine the baseline condition of the property for the species—the number and location of individuals, a habitat assessment, or a combination of the two.

(3) Identify voluntary actions that would provide a net conservation benefit for the species. They also determine the duration of the SHA, allowing enough time to achieve the desired benefit.

(4) Develop a draft SHA that specifies management actions that will provide a net conservation benefit to the species. The draft plan should describe the current and anticipated management of the property (farming, ranching, timber management, etc.). It should also address the monitoring needed to determine if the prescribed management actually benefits the species and/or its habitat.

• Candidate Conservation Agreement with Assurances (application form 3-200-54). A candidate conservation agreement with assurances (CCAA) encourages conservation actions for species that are candidates for listing as threatened or endangered, or are likely to become candidates. The CCAA standard is to provide a net conservation benefit to the covered species and the enrolled property. Non-Federal property owners receive assurances that if they fulfill the conditions of the CCAA, the Service will not require any additional or different land management activities by the participants without their consent.

Permit Conditions

When reviewing materials for the renewal of OMB Control No. 1018-0094, we discovered that some of our permit conditions contain information collection requirements that need OMB approval. We will request that OMB approve the following additional requirements such as:

• Notification of injury or mortality. If an incidental injury or mortality occurs to a listed species not authorized under permits issued in accordance with section 10 of the ESA, the permittee must immediately cease authorized activities in the project area where the species/activities are occurring and notify the appropriate project leader.

• Field Data Forms. If applicable, permittees must provide the appropriate project leader with copies of all field data forms with positive or negative survey results, including, if applicable, copies of quadrangle maps and copies of any aerial photos used in surveying or reconnaissance. Photos and maps must clearly delineate all areas covered during each survey.

• Approval for Activities. Permittees may be required to request approval from the appropriate Service Field Supervisor for the State in which an activity is proposed prior to conducting any activities. The request must be in writing and include full descriptions of proposed project, survey sites, purpose and need of proposed project, and a copy of any contract that the work will fulfill. When performing surveys, a copy of the concurrence letter must be carried while conducting authorized activities. The permit is not valid without applicable concurrence letter(s) for activities along with any required State permits.

• Report of Incidental Take. If actions result in incidental take of ESA-listed species or other species (e.g., bald eagles, migratory birds) not covered by the permit, the permittee must report this take to the Service.

As described in section 10 of the ESA, permits issued under this section “shall contain such terms and conditions as the Secretary [of the Department of the Interior] deems necessary or appropriate including but not limited to reporting requirements as the Secretary deems necessary for determining whether such terms and conditions are being complied with.” In order to simplify reporting and review of reporting, the Service has developed new standardized report forms.

New Report Forms

We are seeking OMB approval for reporting associated with the following report forms:

Use of these new forms is not mandatory, but the same information must be submitted either electronically or by a paper copy. We will use the information collected via reports to track activities conducted that affect endangered or threatened species. These reports provide data to support recovery and to help revise recovery priorities of listed species.

• FWS Form 3-202-5b (ESA Recovery Permits: Region 3 Bat Reporting Spreadsheet).

• FWS Form 3-202-55c (ESA Recovery Permits: Region 4 Bat Reporting Spreadsheet).

• FWS Form 3-202-55d (ESA Recovery Permits: Region 5 Bat Reporting Spreadsheet).

• FWS Form 3-202-55e (ESA Recovery Permits: Region 6 Bat Reporting Spreadsheet).

• FWS Form 3-202-55f (Non-Releasable Sea Turtle Annual Report).

• FWS Form 3-202-55g (Sea Turtle Rehabilitation Quarterly Report Form).

The Service may request that the permittee provide information such as:

• Permittee contact information.

• Species data (species; where and when activity occurred; critical habitat unit name, if applicable; life stage; sex; age; activity; whether take is intentional or incidental; project/report reference number; and recovery action number).

• Narrative responses: (1) Explaining reasons and objectives for taking the species; (2) addressing data collection methods and analysis procedures; (3) summarizing results of the data collected; and (4) specifically providing, at a minimum, application of the results to the recovery of the species.

• For sea turtles, the quarterly reports are to inform the Service's Sea Turtle Coordinator of the releasable status of the sea turtle(s) currently undergoing rehabilitation at that facility. The non-release form is primarily to inform the Service's Sea Turtle Coordinator of the disposition (alive and healthy or dead and necropsied) of the non-releasable sea turtle(s) being held at that facility.

• For bats, information collected also includes habitat condition and equipment used.

II. Data

OMB Control Number: 1018-0094.

Title: Federal Fish and Wildlife Permit Applications and Reports—Native Endangered and Threatened Species, 50 CFR 13 and 17.

Service Form Numbers: 3-200-54, 3-200-55, 3-200-56, 3-202-55b, 3-202-55c, 3-202-55d, 3-202-55e, 3-202-55f, and 3-202-55g.

Type of Request: Revision of a currently approved collection.

Affected Public: Individuals/households, businesses, State and local agencies, private organizations, and scientific and research institutions.

Respondent's Obligation: Required to obtain or retain a benefit.

Estimated Number of Respondents: 2,913.

Frequency of Collection: On occasion for application forms and notifications; annually or quarterly for reports.

Requirement | Total annual responses | Completion time per response (hours) | Total annual burden hours
SHA/CCAA
Application (3-200-54) | 37 | 3 | 111
Safe Harbor Agreement | 17 | 30 | 510
Candidate Conservation Agreement with Assurances | 20 | 30 | 600
Amendments | 2 | 2 | 4
Annual report | 64 | 8 | 512
Notifications (incidental take, change in landowner, and dead, sick, or injured member of covered species) | 2 | 1 | 2
RECOVERY/INTERSTATE COMMERCE
Application (3-200-55) | 400 | 2 | 800
Amendments | 170 | 1 | 170
Request to Revise List of Authorized Individuals | 30 | .5 | 15
Annual Report | 1,300 | 2 | 2,600
Annual Report—FWS Form 3-202-55b (Region 3 Bat Reporting Spreadsheet) | 100 | 2 | 200
Annual Report—FWS Form 3-202-55c (Region 4 Bat Reporting Spreadsheet) | 10 | 2 | 20
Annual Report—FWS Form 3-202-55d (Region 5 Bat Reporting Spreadsheet) | 10 | 2 | 20
Annual Report—FWS Form 3-202-55e (Region 6 Bat Reporting Spreadsheet) | 10 | 2 | 20
Annual Report—FWS Form 3-202-55f—Non-Releasable Sea Turtle Annual Report | 20 | .5 | 10
Quarterly Report—FWS Form 3-202-55g—Sea Turtle Rehabilitation Quarterly Report Form | 20 | .5 | 10
Notifications (Escape of wildlife, injury or mortality of covered species) | 1 | 1 | 1
HCP
Application (3-200-56) | 50 | 8 | 400
Annual report | 600 | 10 | 6,000
Habitat Conservation Plan | 50 | 2,080 | 104,000
Total | 2913 |  | 116,005

Estimated Annual Nonhour Burden Cost: $45,250 for fees associated with permit applications and amendments.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Tina A. Campbell,
Chief, Division of Policy, Performance, and Management Programs, U.S. Fish and Wildlife Service.

[FR Doc. 2016-23769 Filed 9-30-16; 8:45 am]

BILLING CODE 4333-15-P